DEPARTMENT OF HOMELAND SECURITY

Federal Emergency Management Agency

44 CFR Part 64

[Docket ID FEMA-2010-0003; Internal Agency Docket No. FEMA-8131]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain federal assistance no longer available in SFHAs
Region I |  |  |  |
Massachusetts:
Acton, Town of, Middlesex County | 250176 | March 24, 1972, Emerg; June 15, 1978, Reg; June 4, 2010, Susp | June 4, 2010 | June 4, 2010.
Arlington, Town of, Middlesex County | 250177 | January 16, 1974, Emerg; July 5, 1982, Reg; June 4, 2010, Susp | ......*do | Do.
Ashby, Town of, Middlesex County | 250178 | January 31, 1996, Emerg; August 1, 1996, Reg; June 4, 2010, Susp | .......do | Do.
Ashland, Town of, Middlesex County | 250179 | April 24, 1975, Emerg; July 16, 1981, Reg; June 4, 2010, Susp | ......do | Do.
Ayer, Town of, Middlesex County | 250180 | November 7, 1974, Emerg; July 19, 1982, Reg; June 4, 2010, Susp | ......do | Do.
Bedford, Town of, Middlesex County | 255209 | April 2, 1971, Emerg; September 7, 1973, Reg; June 4, 2010, Susp | ......do | Do.
Belmont, Town of, Middlesex County | 250182 | September 6, 1974, Emerg; June 15, 1982, Reg; June 4, 2010, Susp | ......do | Do.
Billerica, Town of, Middlesex County | 250183 | August 18, 1972, Emerg; November 5, 1980, Reg; June 4, 2010, Susp | ......do | Do.
Boxborough, Town of, Middlesex County | 250184 | April 11, 1975, Emerg; September 15, 1978, Reg; June 4, 2010, Susp | ......do | Do.
Burlington, Town of, Middlesex County | 250185 | January 2, 1976, Emerg; July 5, 1984, Reg; June 4, 2010, Susp | ......do | Do.
Cambridge, City of, Middlesex County | 250186 | July 24, 1975, Emerg; July 5, 1982, Reg; June 4, 2010, Susp | ......do | Do.
Carlisle, Town of, Middlesex County | 250187 | January 13, 1976, Emerg; October 15, 1980, Reg; June 4, 2010, Susp | ......do | Do.
Chelmsford, Town of, Middlesex County | 250188 | December 6, 1973, Emerg; June 4, 1980, Reg; June 4, 2010, Susp | ......do | Do.
Concord, Town of, Middlesex County | 250189 | June 9, 1972, Emerg; June 15, 1979, Reg; June 4, 2010, Susp | ......do | Do.
Dracut, Town of, Middlesex County | 250190 | May 6, 1974, Emerg; July 2, 1980, Reg; June 4, 2010, Susp | ......do | Do.
Dunstable, Town of, Middlesex County | 250191 | December 8, 1986, Emerg; December 8, 1986, Reg; June 4, 2010, Susp | ......do | Do.
Everett, City of, Middlesex County | 250192 | June 30, 1975, Emerg; June 3, 1986, Reg; June 4, 2010, Susp | ......do | Do.
Framingham, Town of, Middlesex County | 250193 | August 2, 1974, Emerg; February 3, 1982, Reg; June 4, 2010, Susp | ......do | Do.
Groton, Town of, Middlesex County | 250194 | October 30, 1975, Emerg; July 5, 1982, Reg; June 4, 2010, Susp | ......do | Do.
Holliston, Town of, Middlesex County | 250195 | December 5, 1975, Emerg; September 30, 1980, Reg; June 4, 2010, Susp | ......do | Do.
Hopkinton, Town of, Middlesex County | 250196 | December 3, 1975, Emerg; July 5, 1982, Reg; June 4, 2010, Susp | ......do | Do.
Hudson, Town of, Middlesex County | 250197 | August 8, 1975, Emerg; December 15, 1979, Reg; June 4, 2010, Susp | ......do | Do.
Lexington, Town of, Middlesex County | 250198 | July 31, 1975, Emerg; June 1, 1978, Reg; June 4, 2010, Susp | ......do | Do.
Lincoln, Town of, Middlesex County | 250199 | December 24, 1975, Emerg; June 1, 1978, Reg; June 4, 2010, Susp | ......do | Do.
Littleton, Town of, Middlesex County | 250200 | July 9, 1975, Emerg; June 15, 1983, Reg; June 4, 2010, Susp | ......do | Do.
Lowell, City of, Middlesex County | 250201 | January 14, 1972, Emerg; April 16, 1979, Reg; June 4, 2010, Susp | ......do | Do.
Malden, City of, Middlesex County | 250202 | July 25, 1975, Emerg; May 19, 1987, Reg; June 4, 2010, Susp | ......do | Do.
Marlborough, City of, Middlesex County | 250203 | July 25, 1975, Emerg; January 6, 1982, Reg; June 4, 2010, Susp | ......do | Do.
Maynard, Town of, Middlesex County | 250204 | January 16, 1976, Emerg; June 15, 1979, Reg; June 4, 2010, Susp | ......do | Do.
Medford, City of, Middlesex County | 250205 | May 20, 1975, Emerg; June 3, 1986, Reg; June 4, 2010, Susp | ......do | Do.
Melrose, City of, Middlesex County | 250206 | June 9, 1975, Emerg; August 5, 1986, Reg; June 4, 2010, Susp | ......do | Do.
Natick, Town of, Middlesex County | 250207 | March 26, 1975, Emerg; February 1, 1980, Reg; June 4, 2010, Susp | ......do | Do.
Newton, City of, Middlesex County | 250208 | February 25, 1972, Emerg; June 1, 1978, Reg; June 4, 2010, Susp | ......do | Do.
North Reading, Town of, Middlesex County | 250209 | March 17, 1972, Emerg; April 3, 1978, Reg; June 4, 2010, Susp | ......do | Do.
Pepperell, Town of, Middlesex County | 250210 | January 29, 1975, Emerg; July 2, 1981, Reg; June 4, 2010, Susp | ......do | Do.
Reading, Town of, Middlesex County | 250211 | July 11, 1975, Emerg; July 2, 1981, Reg; June 4, 2010, Susp | ......do | Do.
Sherborn, Town of, Middlesex County | 250212 | June 13, 1978, Emerg; June 18, 1980, Reg; June 4, 2010, Susp | ......do | Do.
Shirley, Town of, Middlesex County | 250213 | July 22, 1975, Emerg; July 5, 1983, Reg; June 4, 2010, Susp | ......do | Do.
Somerville, City of, Middlesex County | 250214 | February 4, 1974, Emerg; July 17, 1986, Reg; June 4, 2010, Susp | ......do | Do.
Stoneham, Town of, Middlesex County | 250215 | October 3, 1975, Emerg; July 3, 1986, Reg; June 4, 2010, Susp | ......do | Do.
Stow, Town of, Middlesex County | 250216 | October 1, 1975, Emerg; August 1, 1979, Reg; June 4, 2010, Susp | ......do | Do.
Sudbury, Town of, Middlesex County | 250217 | August 1, 1975, Emerg; June 1, 1982, Reg; June 4, 2010, Susp | ......do | Do.
Tewksbury, Town of, Middlesex County | 250218 | December 10, 1971, Emerg; July 18, 1977, Reg; June 4, 2010, Susp | ......do | Do.
Townsend, Town of, Middlesex County | 250219 | October 10, 1975, Emerg; August 2, 1982, Reg; June 4, 2010, Susp | ......do | Do.
Tyngsborough, Town of, Middlesex County | 250220 | June 18, 1975, Emerg; September 2, 1982, Reg; June 4, 2010, Susp | ......do | Do.
Wakefield, Town of, Middlesex County | 250221 | March 26, 1974, Emerg; October 17, 1978, Reg; June 4, 2010, Susp | ......do | Do.
Waltham, City of, Middlesex County | 250222 | July 1, 1975, Emerg; December 18, 1979, Reg; June 4, 2010, Susp | ......do | Do.
Watertown, Town of, Middlesex County | 250223 | December 5, 1974, Emerg; September 30, 1980, Reg; June 4, 2010, Susp | ......do | Do.
Wayland, City of, Middlesex County | 250224 | March 21, 1975, Emerg; June 1, 1982, Reg; June 4, 2010, Susp | ......do | Do.
Westford, Town of, Middlesex County | 250225 | October 3, 1975, Emerg; June 15, 1983, Reg; June 4, 2010, Susp | ......do | Do.
Weston, Town of, Middlesex County | 250226 | July 30, 1975, Emerg; July 2, 1980, Reg; June 4, 2010, Susp | ......do | Do.
Wilmington, Town of, Middlesex County | 250227 | July 1, 1974, Emerg; June 15, 1982, Reg; June 4, 2010, Susp | ......do | Do.
Winchester, Town of, Middlesex County | 250228 | August 11, 1975, Emerg; June 18, 1980, Reg; June 4, 2010, Susp | ......do | Do.
Woburn, City of, Middlesex County | 250229 | June 26, 1975, Emerg; July 2, 1980, Reg; June 4, 2010, Susp | ......do | Do.
Region IV |  |  |  |
Alabama:
Berry, Town of, Fayette County | 010255 | July 9, 1976, Emerg; June 3, 1986, Reg; June 4, 2010, Susp | ......do | Do.
Fayette, City of, Fayette County | 010084 | July 17, 1974, Emerg; March 1, 1984, Reg; June 4, 2010, Susp | ......do | Do.
Fayette County, Unincorporated Areas | 010219 | June 17, 1976, Emerg; September 18, 1985, Reg; June 4, 2010, Susp | ......do | Do.
Glen Allen, Town of, Fayette County | 010256 | August 25, 1975, Emerg; September 18, 1985, Reg; June 4, 2010, Susp | ......do | Do.
Florida:
Hamilton County, Unincorporated Areas | 120101 | February 12, 1975, Emerg; June 4, 1987, Reg; June 4, 2010, Susp | ......do | Do.
Jasper, City of, Hamilton County | 120587 | N/A, Emerg; July 27, 2006, Reg; June 4, 2010, Susp | ......do | Do.
White Springs, Town of, Hamilton County | 120102 | November 5, 1975, Emerg; June 4, 1987, Reg; June 4, 2010, Susp | ......do | Do.
Tennessee:
Dunlap, City of, Sequatchie County | 470270 | September 29, 1975, Emerg; March 4, 1988, Reg; June 4, 2010, Susp | ......do | Do.
Lake County, Unincorporated Areas | 470334 | April 22, 1975, Emerg; March 16, 1981, Reg; June 4, 2010, Susp | ......do | Do.
Region V |  |  |  |
Michigan:
Centreville, Village of, St. Joseph County | 260509 | April 5, 1979, Emerg; September 30, 1988, Reg; June 4, 2010, Susp | ......do | Do.
Colon, Township of, St. Joseph County | 260510 | March 9, 1977, Emerg; September 16, 1988, Reg; June 4, 2010, Susp | ......do | Do.
Colon, Village of, St. Joseph County | 260511 | March 9, 1977, Emerg; March 2, 1979, Reg; June 4, 2010, Susp | ......do | Do.
Constantine, Village of, St. Joseph County | 260512 | September 23, 1976, Emerg; August 19, 1986, Reg; June 4, 2010, Susp | ......do | Do.
Fabius, Township of, St. Joseph County | 260781 | November 13, 1986, Emerg; September 30, 1988, Reg; June 4, 2010, Susp | ......do | Do.
Lockport, Township of, St. Joseph County | 260715 | August 30, 1982, Emerg; February 17, 1989, Reg; June 4, 2010, Susp | ......do | Do.
Mendon, Township of, St. Joseph County | 260513 | May 28, 1982, Emerg; July 2, 1987, Reg; June 4, 2010, Susp | ......do | Do.
Mendon, Village of, St. Joseph County | 261136 | July 6, 2007, Emerg; June 4, 2010, Reg; June 4, 2010, Susp | ......do | Do.
Nottawa, Township of, St. Joseph County | 260514 | January 24, 1978, Emerg; March 2, 1989, Reg; June 4, 2010, Susp | ......do | Do.
Park, Township of, St. Joseph County | 261122 | June 30, 2009, Emerg; June 4, 2010, Reg; June 4, 2010, Susp | ......do | Do.
Three Rivers, City of, St. Joseph County | 260206 | April 28, 1975, Emerg; December 15, 1990, Reg; June 4, 2010, Susp | ......do | Do.
White Pigeon, Village of, St. Joseph County | 261138 | May 21, 2009, Emerg; June 4, 2010, Reg; June 4, 2010, Susp | ......do | Do.
Minnesota:
Arden Hills, City of, Ramsey County | 270375 | January 21, 1975, Emerg; July 2, 1981, Reg; June 4, 2010, Susp | ......do | Do.
Little Canada, City of, Ramsey County | 270377 | May 24, 1977, Emerg; November 3, 1982, Reg; June 4, 2010, Susp | ......do | Do.
Maplewood, City of, Ramsey County | 270378 | April 23, 1974, Emerg; August 5, 1986, Reg; June 4, 2010, Susp | ......do | Do.
Mounds View, City of, Ramsey County | 270379 | July 23, 1975, Emerg; March 2, 1983, Reg; June 4, 2010, Susp | ......do | Do.
New Brighton, City of, Ramsey County | 270380 | April 5, 1974, Emerg; September 1, 1978, Reg; June 4, 2010, Susp | ......do | Do.
North St. Paul, City of, Ramsey County | 270382 | May 9, 1974, Emerg; September 15, 1978, Reg; June 4, 2010, Susp | ......do | Do.
Roseville, City of, Ramsey County | 270599 | February 9, 1976, Emerg; March 30, 1981, Reg; June 4, 2010, Susp | ......do | Do.
Shoreview, City of, Ramsey County | 270384 | May 2, 1975, Emerg; April 1, 1981, Reg; June 4, 2010, Susp | ......do | Do.
St. Paul, City of, Ramsey County | 275248 | April 2, 1971, Emerg; February 9, 1973, Reg; June 4, 2010, Susp | ......do | Do.
Vadnais Heights, City of, Ramsey County | 270385 | July 3, 1974, Emerg; June 30, 1976, Reg; June 4, 2010, Susp | ......do | Do.
White Bear, Township of, Ramsey County | 270688 | March 9, 1977, Emerg; September 18, 1985, Reg; June 4, 2010, Susp | ......do | Do.
White Bear Lake, City of, Ramsey and Washington Counties | 270386 | April 28, 1975, Emerg; September 4, 1987, Reg; June 4, 2010, Susp | ......do | Do.
Ohio:
Carroll County, Unincorporated Areas | 390763 | May 11, 1990, Emerg; September 28, 1990, Reg; June 4, 2010, Susp | ......do | Do.
Delroy, Village of, Carroll County | 390049 | March 11, 1977, Emerg; August 19, 1987, Reg; June 4, 2010, Susp | ......do | Do.
Magnolia, Village of, Carroll and Stark Counties | 390051 | February 2, 1976, Emerg; September 1, 1986, Reg; June 4, 2010, Susp | ......do | Do.
Malvern, Village of, Carroll County | 390052 | May 14, 1975, Emerg; July 3, 1995, Reg; June 4, 2010, Susp | ......do | Do.
Region VI
New Mexico:
Artesia, City of, Eddy County | 350016 | April 4, 1975, Emerg; February 4, 1981, Reg; June 4, 2010, Susp | ......do | Do.
Carlsbad, City of, Eddy County | 350017 | July 21, 1972, Emerg; March 15, 1978, Reg; June 4, 2010, Susp | ......do | Do.
Eddy County, Unincorporated Areas | 350120 | October 22, 1975, Emerg; April 22, 2004, Reg; June 4, 2010, Susp | Do | Do.
Texas:
Amarillo, City of, Potter and Randall Counties | 480529 | March 30, 1973, Emerg; July 19, 1982, Reg; June 4, 2010, Susp | ......do | Do.
Canyon, City of, Randall County | 480533 | August 29, 1974, Emerg; September 20, 1982, Reg; June 4, 2010, Susp | ......do | Do.
Lake Tanglewood, Village of, Randall County | 481259 | July 21, 1975, Emerg; September 30, 1982, Reg; June 4, 2010, Susp | ......do | Do.
Palisades, Village of, Randall County | 481666 | N/A, Emerg; June 12, 1995, Reg; June 4, 2010, Susp | ......do | Do.
Timbercreek Canyon, Village of, Randall County | 485518 | January 26, 1984, Emerg; January 26, 1984, Reg; June 4, 2010, Susp | ......do | Do.
Potter County, Unincorporated Areas | 481241 | February 25, 2004, Emerg; June 4, 2010, Reg; June 4, 2010, Susp | ......do | Do.
Randall County, Unincorporated Areas | 480532 | June 13, 1978, Emerg; September 30, 1982, Reg; June 4, 2010, Susp | ......do | Do.
Region X
Alaska: Hoonah, City of, Skagway-Hoonah-Angoon Census Area | 020049 | June 14, 1976, Emerg; April 2, 1979, Reg; June 4, 2010, Susp | ......do | Do.
*do =Ditto.
Code for reading third column: Emerg.—Emergency; Reg.—Regular; Susp.—Suspension.

Dated: May 11, 2010.
Sandra K. Knight,
Deputy Federal Insurance and Mitigation Administrator, Mitigation.

[FR Doc. 2010-12203 Filed 5-20-10; 8:45 am]

BILLING CODE 9110-12-P